DEPARTMENT OF THE INTERIOR

Bureau of Land Management

[LLWO350000 L14300000.ER0000]

Notice of Segregation of Public Lands in the States of Arizona, California, Colorado, Nevada, New Mexico, and Utah

AGENCY: Bureau of Land Management, Interior.

ACTION: Notice.

SUMMARY: The Bureau of Land Management (BLM) is segregating public lands located in six States from appropriation under the public land and mining laws, but not the mineral leasing or material sales acts, for a period of 2 years for the purpose of protecting potential sites for future solar energy development.

DATES: Effective Date: This segregation is effective on June 30, 2011.

FOR FURTHER INFORMATION CONTACT: Linda Resseguie, Realty Specialist; Telephone: 202-912-7337; Address: 1849 C Street, NW., Room 2134LM, Washington, DC 20240; or e-mail: linda_resseguie@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM has requested the Secretary of the Interior to withdraw, subject to valid existing rights, approximately 677,384 acres of public lands located in the States of Arizona, California, Colorado, Nevada, New Mexico, and Utah from settlement, sale, location, or entry under the public land laws, including the mining laws, but not the mineral leasing, geothermal leasing, and the mineral material laws for a period of 5 years. On June 30, 2009, a Notice of Proposed Withdrawal and Opportunity for Public Meeting was published in the Federal Register (74 FR 31308), which closed the lands from surface entry and mining for a 2-year period. This closure period will expire on June 29, 2011. In order to prevent opening of the lands on this date, the BLM is segregating the lands under the authority contained in 43 CFR 2091.3-1(e) and 43 CFR 2804.25(e) for a period of 2 years, subject to valid existing rights. This 2-year segregation period will commence on June 30, 2011. The public lands involved in this notice will be segregated from appropriation under the public land and mining laws, but not the mineral leasing or material sale laws. It has been determined that this segregation is necessary for the orderly administration of the public lands that have been identified by the BLM as having the potential for solar energy generation.

The segregation period will terminate and the lands will automatically reopen to appropriation under the public land laws, including the mining laws, 2 years from the effective date of publication in the Federal Register unless, prior to the end of the 2-year period, the BLM publishes a Federal Register notice terminating the segregation.

The lands to be segregated are identified in the proposed withdrawal notice that was published in the Federal Register on April 21, 2011 (76 FR 22414).

Michael D. Nedd,
Assistant Director, Minerals and Realty Management.

[FR Doc. 2011-16429 Filed 6-29-11; 8:45 am]

BILLING CODE 4310-84-P